DEPARTMENT OF ENERGY

Federal Energy Regulatory Commission

Notice of Scoping Meetings and Site Visit and Soliciting Scoping Comments

June 23, 2000.

Take notice that the following hydroelectric applications have been filed with Commission and are available for public inspection:

a. Type of Applications: New Major Licenses.

b. Projects: Soda Project No. 20-019, Grace-Cove Project No. 2401-007, and Oneida Project No. 472-017.

c. Date filed: September 27, 1999.

d. Applicant: PacifiCorp.

e. Location: On the Bear River in Caribou and Franklin Counties, Idaho. The projects are partially on United States lands administered by the Bureau of Land Management.

f. Filed Pursuant to: Federal Power Act, 16 USC 791(a)-825(r).

g. Applicant Contact: Randy Landolt, Director, Hydro Resources, PacifiCorp, 825 N.E. Multnomah Street, Suite 1500, Portland, OR 97232, (503) 813-6650, or, Thomas H. Nelson, 825 Multnomah Street, Suite 925, Portland, OR 97232, (503) 813-5890.

h. FERC Contact: Susan O'Brien, susan.obrien@ferc.fed.us, (202) 219-2840.

i. Deadline for filing scoping comments: September 14, 2000.

All documents (original and eight copies) should be filed with: David P. Boergers, Secretary, Federal Energy Regulatory Commission, 888 First Street, NE, Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

j. This application is not ready for environmental analysis at this time.

k. The existing Soda Project consists of: (1) the 103-foot-high and 433-foot-long concrete gravity Soda Dam with a 114-foot-long spillway section; (2) the Soda Reservoir with a surface area of 1,100 acres, an active storage capacity of 16,300 acre-feet, and a maximum water elevation of 5,720 feet; (3) the Soda Powerhouse containing two units with a total installed capacity of 14 megawatts (MW); and (4) other appurtenances.

The existing Grace Development consists of: (1) a 51-foot-high and 180-foot-long rock filled timber crib dam that creates a 250 acre-feet usable storage capacity forebay; (2) a 26,000-foot-long flowline and surge tanks; and (3) a powerhouse with three units with total installed capacity of 33 MW. The Cove Development consists of: (1) a 26.5-foot-high and 141-foot-long concrete dam creating a 60-acre-foot forebay; (2) a 6,125-foot-long concrete and wood flume; (3) a 500-foot-long steel penstock; and (4) a powerhouse with a 7.5-MW unit.

The existing Oneida Project consists of: (1) the 111-foot-high and 456-foot-long concrete gravity Oneida Dam; (2) the Oneida Reservoir with an active storage of 10,880 acre-feet and a surface area of 480 acres; (3) an 16-foot-diameter, 2,240-foot-long flowline; (4) a surge tank; (5) three 12-foot-diameter, 120-foot-diameter, 120-foot-long steel penstocks; (6) the Oneida Powerhouse with three units with a total installed capacity of 30 MW; and (7) other appurtenances.

l. A copy of the application is available for inspection and reproduction at the Commission's Public Reference Room, located at 888 First Street, NE, Room 2A, Washington, DC 20426, or by calling (202) 208-1371. The application may be viewed on http://www.ferc.fed.us/rims.htm (call (202) 208-2222 for assistance). A copy is also available for inspection and reproduction at the address in item g above.

m. Scoping Process

The Commission intends to prepare an Environmental Impact Statement (EIS) on the project in accordance with the National Environmental Policy Act. The EIS will consider both site-specific and cumulative environmental impacts and reasonable alternatives to the proposed action.

Scoping Meetings and Site Visit

A scoping meeting will be held on Tuesday, August 14, 2000 from 7:00 p.m. until 10 p.m. at the Caribou County Senior Citizens Center, 60 South Main Street, Soda Springs, Idaho. A project site visit will be scheduled for Tuesday, August 14, 2000 at 9 am, if there is any interest. If you would like to attend, please call Susan O'Brien, FERC Team Leader, at (202) 219-2840, no later than Thursday, July 27, 2000.

Copies of the Scoping Document (SDI) outlining the subject areas to be addressed in the EIS were distributed to the parties on the Commission's mailing list. Copies of the SDI will be available at the scoping meeting in August or may be viewed on http://www.ferc.fed.us/rims.htm (call (202) 208-2222 for assistance).

The Commission held scoping meetings, one in the daytime and one in the evening, to help identify the scope of issues to be addressed in the EIS. The daytime scoping meeting was held on June 15, 2000 at the Holiday Inn, 1399 Bench Road, Pocatello, Idaho, and focused on resource agency concerns. The evening scoping meeting was held on June 14, 2000 at the Caribou County Senior Citizens Center, 60 South Main Street, Soda Spring, Idaho, and was primarily for public input. The applicant and Commission staff also conducted a project site visit on Friday, June 16, 2000.

It was the Commission's intent that all interested individuals, organizations, and agencies be invited to attend one or both of the meetings and the site visit, and to assist the staff in identifying the scope of the environmental issues that should be analyzed in the EIS. These meetings and site visit were not noticed in the Federal Register or the local newspapers. For that reason, the subject scoping meeting and site visit are being scheduled. Transcripts of the June meetings will be available shortly and can be viewed on http://www.ferc.fed.us/rims.htm (call (202) 208-2222 for assistance). Transcripts of the August meeting will also become available shortly after that meeting.

The scoping comment period will be extended from July 16, 2000 until September 14, 2000. Please follow procedures in item i. above.

Objectives

Individuals, organizations, and agencies with environmental expertise and concerns are encouraged to attend the meeting and to assist the staff in defining and clarifying the issues to be addressed in the EIS.

At the scoping meetings, the staff will: (1) Summarize the environmental issues tentatively identified for analysis in the EIS; (2) solicit from the meeting participants all available information, especially quantifiable data, on the resources at issue; (3) encourage statememts from experts and the public on issues that should be analyzed in the EIS, including viewpoints in opposition to, or in support of, the staff's preliminary views; (4) determine the resource issues to be addressed in the EIS; and (5) identify those issues that require a detailed analysis, as well as those issues that do not require a detailed analysis.

Procedures

The meetings are recorded by a stenographer and become part of the formal record of the Commission proceeding on the project.

Linwood A. Watson, Jr.,
Acting Secretary.

[FR Doc. 00-16423 Filed 6-28-00; 8:45 am]

BILLING CODE 6717-01-M